DEPARTMENT OF ENERGY

Secretary of Energy Advisory Board

AGENCY: Department of Energy.

ACTION: Notice of open meeting.

SUMMARY: This notice announces an open meeting of the Secretary of Energy Advisory Board (SEAB). The Federal Advisory Committee Act (Pub. L. 92-463, 86 Stat. 770 requires that public notice of these meetings be published in the Federal Register.

DATES: Friday, November 16, 2012, 8:30 a.m.-5:00 p.m.

ADDRESSES: U.S. Department of Energy, 1000 Independence Avenue SW., Washington, DC 20585.

FOR FURTHER INFORMATION CONTACT: Alyssa Morrissey, Deputy Designated Federal Officer, U.S. Department of Energy, 1000 Independence Avenue SW., Washington, DC 20585; telephone (202) 586-2926 or facsimile (202) 586-1441; email: seab@hq.doe.gov.

SUPPLEMENTARY INFORMATION: Background: The SEAB was reestablished to provide advice and recommendations to the Secretary on the Department's basic and applied research, economic and national security policy, educational issues, operational issues and other activities as directed by the Secretary.

Purpose of the Meeting: The Buildings Efficiency and Small Modular Reactor Subcommittees will present interim reports to the Board for review.

Tentative Agenda: The meeting will start at 8:30 a.m. on November 16, 2012. The meeting agenda includes full committee discussion regarding the draft reports from the Buildings Efficiency and Small Modular Reactor Subcommittees. The SEAB will decide whether or not to put forward the recommendations in the interim reports to the Secretary. The committee will also have a general discussion of energy policy and the Department of Energy. The meeting will conclude at 5:00 p.m.

Public Participation: The meeting will be open to the public. Individuals who would like to attend must RSVP to Alyssa Morrissey no later than 5:00 p.m. on Wednesday, November 14, 2012, by email at: seab@hq.doe.gov. The RSVPs should note if the individual is not a U.S. citizen to ensure the paperwork necessary for entry can be completed in advance. Individuals and representatives of organizations who would like to offer comments may do so at the meeting on Friday, November 16, 2012. Approximately 30 minutes will be reserved for public comments. Time allotted per speaker will depend on the number who wish to speak but will follow the five-minute rule. Public Comment will be available on a first come, first served basis. The Designated Federal Official and Deputy Designated Federal Official are empowered to conduct the meeting in a fashion that will facilitate the orderly conduct of business.

Those not able to attend the meeting or have insufficient time to address the committee are invited to send a written statement to Alyssa Morrissey, U.S. Department of Energy, 1000 Independence Avenue SW., Washington DC 20585, or by email to: seab@hq.doe.gov.

Minutes: The minutes of the meeting will be available on the SEAB Web site at: http://www.energy.gov/SEAB or by contacting Ms. Morrissey. She may be reached at the postal address or email address above.

Issued in Washington, DC on October 16, 2012.
LaTanya R. Butler,
Acting Deputy Committee Management Officer.

[FR Doc. 2012-26056 Filed 10-22-12; 8:45 am]

BILLING CODE 6450-01-P